FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—11/15/2004
20050145 | Albert Frere | Rosemore, Inc | Crown Central Petroleum Corporation
20050152 | Leonard Riggio | Barnes & Noble, Inc | Barnes & Noble, Inc.
20050158 | Seaport Capital Partners, II, L.P | Robert and Kathleen Titsch | National Training Institute, Ltd.; Taurus Publishing Inc.; Virgo Publishing, Inc.
20050168 | MBNA Corporation | AmSouth Bancorporation | AmSouth Bank.
Transactions Granted Early Termination—11/16/2004
20050146 | Baton Holdco I L.L.C | H. Wayne Huizenga | Boca Resorts, Inc.
20050160 | Cruise Luxco 1 S.a.r.l | EQT II | Thule AB
20050161 | Mitsui & Co., Ltd | Cornerstone Nutritional Labs, L.C | Cornerstone Nutritional Labs, L.C.
20050163 | American Capital Strategies, Ltd | Lafayette Investment Parallel Fund, L.P | Hospitality Mints LLC
Transactions Granted Early Termination—11/18/2004
20050157 | Odyssey Investment Partners Fund, L.P | Ronald V. Valenta | Portosan Company, L.L.C.; Redwood Sanitary Services, Inc.
20050164 | Thomas Weisel Capital Partners, L.P | Glenn W. Johnson III | Aircast Incorporated.
Transactions Granted Early Termination—11/19/2004
20050101 | Bayer A.G | Robert Taub | Opperbas Holdings B.V.
20050166 | Hicks, Muse, Tate & Furst Equity Fund V, L.P | Charlesbank Equity Fund V, Limited Partnership | Regency Gas Services LLC
Transactions Granted Early Termination—11/22/2004
20050175 | Wilh. Werhahn KG | Mr. Dal LaMagna | Tweezerman Corporation
20050178 | Schering-Plough Corporation | ViroPharma Incorporated | ViroPharma Incorporated.
20050179 | Bayer AG | Roche Holding Ltd | Bayer-Roche LLC
20050181 | Onex Partners LP | Brockway Moran & Partners, Inc | BMP/CEI Holdings, Inc.
20050182 | Genstar Capital Partners III, L.P | Colfax Corporation | Colfax Corporation.
20050186 | Les Domaines Barons de Rothschild (Lafite) S.C.A | The Chalone Wine Group, Ltd | The Chalone Wine Group, Ltd.
20050188 | Platinum Equity Capital Partners, L.P | General Electric Company | GE IT Solutions, Inc.
20050206 | Media/Communications Partners III Limited Partnership | Roy Mayers | Merrimack M&R Realty LLC; Options Publishing, Inc.
Transactions Granted Early Termination—11/23/2004
20050187 | Questor Partners Fund II, L.P | Polar Corporation | Polar Corporation.
20050190 | First Horizon National Corporation | The Goldman Sachs Group, Inc | Spear, Leeds & Kellogg, L.P.
Transactions Granted Early Termination—11/24/2004
20041154 | Kenneth R. Thomson | Information Holdings Inc | Information Holdings Inc.
Transactions Granted Early Termination—11/26/2004
20050212 | Regis Corporation | Hair Club Group Inc | Hair Club Group Inc.
Transactions Granted Early Termination—11/29/2004
20050211 | Mr. Francisco Riberas Pampliega | MatlinPatterson Global Opportunities Partners L.P | Oxford Automotive Alabama, Inc.; Oxford Automotive, Inc.
20050219 | BP p.l.c | Salvay S.A | BP Solvay Olefins, L.P.; BP Solvay Polyethylene North America
Transactions Granted Early Termination—11/30/2004
20050192 | Cajun Holding Company | AFC Enterprises, Inc | AFC Enterprises, Inc.
20050201 | Asia Opportunity Fund, L.P | Futuris Corporation Ltd | Air International (US) Inc.
20050207 | AMERIGROUP Corporation | Careplus, LLC | Careplus, LLC.
20050214 | Thayer Equity Investors V, L.P | Wind Point Partners III, L.P | Qualitor, Inc.
20050217 | Blackstone Capital Partners (Cayman) IV, L.P | Glass Holdings Limited | Gerrresheimer Beteiligungs GmbH
20050223 | Richard B. Handler | Jefferies Group, Inc | Jefferies Group, Inc.
20050224 | Legg Mason, Inc | Deutsche Bank AG | Deutsche Investment Management Americas, Inc.
20050230 | Jones Apparel Group, Inc | Barneys New York, Inc | Barneys New York, Inc.
20050235 | Enbridge Inc | Royal Dutch Petroleum Company | Mississippi Canyon Gas Pipeline, LLC; Shell Gas Gathering, LLC.
20050236 | Francisco Partners, L.P | WRQ, Inc | WRQ, Inc.
20050237 | Olympus Growth Fund IV, L.P | K. Brent McGruder | K-Mac Enterprises, Inc.
20050241 | GATX Corporation | General Motors Corporation | Locomotive Leasing Partners, LLC.
20050254 | ALLTEL Corporation | ALLTEL Corporation | Appleton-Oshkosh-Neenah MSA Limited Partnership.
Transactions Granted Early Termination—12/02/2004
20050148 | Lockheed Martin Corporation | Carlyle Partners III, L.P | Sippican Holdings Inc.
20050205 | Time Warner Inc | Gateway, Inc | Gateway, Inc.
20050220 | Novo Nordisk Foundation | Aradigm Corporation | Aradigm Corporation.
20050240 | Celerity Holding Company, Inc | Kinetics Holdings, LLC | Celerity Group, Inc.; FTS Systems, Inc.; Kinetic Chempure Systems, Inc.
20050243 | GTRC Fund VII, L.P | NewQuest LLC | GulfQuest, L.P.; HealthSpring Management, Inc.; HealthSpring of Alabama, Inc.; HealthSpring of Illinois I, Inc.; HealthSpring USA, LLC; HouQuest, LLC; New Quest Management of Alabama, LLC; NewQuest Management of Illinois, LLC; Signature Health Alliance, Inc.; Texas HealthSpring I, LLC; TexQuest, LLC.
20050247 | Firmenich International SA | Noville, Inc | Noville, Inc.
20050258 | Phillips-Van Heusen Corporation | Vestar Capital Partners III, L.P | Cluett Peabody & Co., Inc.; Cluett Peabody Resources Corporation
Transactions Granted Early Termination—12/03/2004
20050216 | Omnicare, Inc | Clinimetrics Research Associates, Inc | Clinimetrics Research Associates, Inc.
20050231 | Alberto-Culver Company | John Tobias | Innovations Successful Salon Services, Inc.
20050232 | Alberto-Culver Company | Samuel Licursi | Innovations Successful Salon Services, Inc.
20050233 | Rentech, Inc | Royster-Clark Group, Inc | Royster-Clark Group, Inc.

FOR FURTHER INFORMATION CONTACT: Sandra M. Peay, Contact Representative; or Renee Hallman, Case Management Assistant, Federal Trade Commission, Premerger Notification Office, Bureau of Competition, Room H-303, Washington, DC 20580, (202) 326-3100.

By Direction of the Commission.
Donald S. Clark,
Secretary.

[FR Doc. 04-27851 Filed 12-20-04; 8:45 am]

BILLING CODE 6750-01-M